DEPARTMENT OF JUSTICE

Antitrust Division

Notice Pursuant to the National Cooperative Research and Production Act of 1993—Advanced Television Systems Committee, Inc.

Notice is hereby given that, on September 14, 2004, pursuant to Section 6(a) of the National Cooperative Research and Production Act of 1993, 15 U.S.C. 4301 et seq. (“the Act”), Advanced Television Systems Committee, Inc. (“ATSC”) has filed written notifications simultaneously with the Attorney General and the Federal Trade Commission disclosing (1) the name and principal place of business of the standards development organization and (2) the nature and scope of its standards development activities. The notifications were filed for the purpose of involving the Act's provisions limiting the recovery of antitrust plaintiffs to actural damages under specified circumstances.

Pursuant to Section 6(b) of the Act, the name and principal place of business is: Advanced Television Systems Committee, Inc., Washington, DC. The nature and scope of ATSC's standards development activities are: Coordinating television standards among different communications media, focusing on digital television, interactive systems and broadband multimedia communications; developing digital television implementation strategies; and presenting educational seminars on the ATSC standards.

Dorothy B. Fountain,
Deputy Director of Operations, Antitrust Division.

[FR Doc. 04-22889 Filed 10-12-04; 8:45 am]

BILLING CODE 4410-11-M